DEPARTMENT OF HEALTH AND HUMAN SERVICES

Administration for Children and Families

[CFDA Number 93.556]

Announcement of the Award of a Single-Source Program Expansion Supplement Grant to the Research Foundation of CUNY on Behalf of Hunter College School of Social Work, New York, NY

AGENCY: Children's Bureau, Administration on Children, Youth and Families, Administration for Children and Families, Health and Human Services.

ACTION: Announcement of the award of a single-source program expansion supplement grant to the Research Foundation of CUNY on behalf of Hunter College School of Social Work in New York, NY, to provide targeted technical assistance to Family Connections grantees.

SUMMARY: The Administration for Children and Families (ACF), Children's Bureau (CB) announces the award of a single-source program expansion supplement in the amount of $420,000 to the Research Foundation of CUNY on behalf of Hunter College School of Social Work, New York, NY, to provide targeted technical assistance to address continuing challenges in the field as child welfare programs work to implement the requirements of new legislation. The Research Foundation of CUNY on behalf of Hunter College is the recipient of a cooperative agreement to act as the administrator for the National Resource Center for Permanency and Family Connections (NRCPFC).

DATES: September 30, 2012 through September 29, 2013.

SUPPLEMENTARY INFORMATION: The supplemental funding will afford the National Resource Center on Permanency and Family Connections the opportunity to provide new or modified technical assistance to assist States and Tribes in implementing the Administration on Children, Youth and Families' well-being framework in the context of the new requirements of the Child and Family Services Improvement and Innovation Act (Pub. L. 112-34). In addition, the Fostering Connections to Success and Increasing Adoptions Act of 2008 (Pub. L. 110-351) provides for a discretionary matching grant program to implement projects in the areas of Kinship Navigator, Family Finding, Family Group Decision Making and Residential Family Treatment. The law also added a requirement at section 471(a)(29) that directs State foster care and adoption agencies (title IV-E agencies) to exercise due diligence to identify and notify all adult relatives of a child, within 30 days of the child's removal, of the relative's options to become a placement resource for the child. In total, the supplemental funding will allow the NRCPFC to do the following:

1. Provide focused technical assistance to Family Connections grantees.

2. Engage States that did not receive discretionary grants in on-site consultation regarding effectively involving relatives in child welfare practice.

3. Proactively transfer the knowledge developed under the discretionary grant program to States to assist in meeting new plan requirements.

The NRCPFC will increase technical assistance efforts to enhance the achievement of permanency by assisting agencies to better locate, notify and involve families and relatives in the engagement and planning process while maintaining awareness of confidentiality issues.

FOR FURTHER INFORMATION CONTACT: Jane Morgan, Children's Bureau, 1250 Maryland Avenue SW., Washington, DC 20024. Telephone: 202-205-8807; Email: jane.morgan@acf.hhs.gov.

Statutory Authority: Fostering Connections to Success and Increasing Adoptions Act of 2008 (Pub. L. 110-351).

Bryan Samuels,
Commissioner, Administration on Children, Youth and Families.

[FR Doc. 2012-26303 Filed 10-24-12; 8:45 am]

BILLING CODE 4184-01-P